GENERAL SERVICES ADMINISTRATION

[Notice-IDMO-2015-01; Docket No. 2015-0002; Sequence 7]

GSA's Digital Innovation and Strategy Hack-A-Thon

AGENCY: General Services Administration (GSA), GSA IT, Office of Digital Innovation and Strategy.

ACTION: Notice.

SUMMARY: The purpose of this notice is to announce a software programming and data innovation competition hosted by GSA's Office of Digital Innovation and Strategy that will be held on May 8, 2015. The competition details can be viewed at http://open.gsa.gov/Digital-Innovation-Hackathon/. The goal of this competition is to ask the public and academia to develop smart technology solutions in the form of an application, Application Programming Interface (API), and/or data mashup that has the capability to providing GSA with key insights and recommendations for future enhancements. GSA will challenge software developers and designers to create a solution using sample GSA data.

DATES: Registration for the event will close Tuesday, May 5, at 11:59 p.m. Eastern Standard Time (EST). The competition will be open on Friday, May 8, 2015 from 9:00 a.m. until 4:30 p.m. Eastern Standard Time (EST).

ADDRESSES: Registration: Registration for this event will be accomplished online at the following link: https://www.eventbrite.com/e/us-general-services-administration-gsa-hack-a-thon-tickets-15637828165. The event space is limited to the first 120 people; once registration is complete, participants will receive a confirmation email.

Event Location: 1800 F Street NW., Washington, DC 20405, Conference Center. A government-issued ID shall be required to gain access into the building. All participants must enter through the main entrance located on 18th Street.

FOR FURTHER INFORMATION CONTACT: Ms. Cindy A. Smith at cindya.smith@gsa.gov or 816-823-5291.

SUPPLEMENTARY INFORMATION: Purpose: In this competition, the public is asked to develop a technology-driven solution using GSA data that allows an agency to identify opportunities for improvements and transparency. As such, GSA challenges the public to create a solution using GSA data that could be replicated across government to every agency, using their own data. Sample data sets with GSA data will be provided.

Details of Challenge: Design and create a digital interactive solution in the form of an application, Application Programming Interface (API), and/or data mashup that utilizes federal data collected by GSA. The technology solution should be innovative! GSA does not want an analysis tool that tells what is already known. This should be a forward-thinking solution that enhances transparency.

The solution should be a data-driven solution to provide meaningful insights that can help drive smarter decisions by federal employees. The ultimate goal is to help federal agencies use data to its fullest, share data with all agencies, and become transparent to the American Public.

The solution should accomplish two tasks:

1. Visually display or transmit data in a way that will enhance the way GSA works; and

2. Through analysis of the data identify relationships if they exist, and provide valuable insights that could be gained through improved data collection efforts.

GSA will assign teams randomly based on the number of participants on the day of the event. No pre-determined team arrangements will be permitted. Modification to team make-up may occur based on team skill make-up at the direction of the competition host.

Data: Participants will be provided current GSA public data sets to use in designing their solution on the day of the event. Prior to the event, the GitHub page, open.gsa.gov/Digital-Innovation-Hackathon/, will be updated with project details and criteria.

Hackathon projects may include the following:

• IAE CO Dashboard—A Dashboard that pulls together Contract Report Data, with Vendor information along with Contract Performance information in one location.

• Travel Tool—Improvements/Enhancements to the existing Tool.

• Public Data Listing Formatting on GitHub—A new way to view all of GSA's data assets.

• Socio-Economic Advisor—Access to specific Vendor data (Products, Services, etc.).

• Energy Use/Cost by Building/Effect on TSS—Identify drivers and relationships.

Eligibility for Challenge: Eligibility to participate in the GSA Digital Innovation and Strategy competition and win a prize is limited to entities/individuals:

1. That have registered to participate in the competition and complied with the rules of the competition as explained in this posting; and

2. That have been incorporated in and maintains a primary place of business in the United States, and in the case of an individual, whether participating singly or in a group, the participant must be a citizen or permanent resident of the United States.

Participants may not be a federal entity or federal employee acting within the scope of employment. However, an individual or entity shall not be deemed ineligible because the individual or entity used federal facilities or consulted with federal employees during a competition if the facilities and employees are made available to all individuals and entities participating in the competition on an equitable basis.

Participants agree to assume any and all risks and waive claims against the Federal Government and its related entities, except in the case of willful misconduct, for any injury, death, damage, or loss of property, revenue, or profits, whether direct, indirect, or consequential, arising from participation in this competition, whether the injury, death, damage, or loss arose through negligence or otherwise. Participants also agree to obtain liability insurance or demonstrate financial responsibility, to cover a third party for death, bodily injury, property damage, or loss resulting from an activity carried out in connection with participation in this competition.

Participants are hereby advised that diligent care must be taken to avoid the appearance of government endorsement of competition participation and submission. Moreover, as is customary when doing business with the Federal Government, participants may not refer to GSA's use of your submission (be it product or service) in any commercial advertising or similar promotions in a manner that states or implies that the product or service being used is endorsed or preferred by GSA or any other element of the Federal Government, or that the Federal Government considers it to be superior to other products or services. The intent of this policy is to prevent the appearance of Federal Government bias toward any one product or service. Participants agree that GSA's trademarks, logos, service marks, trade names, or the fact that GSA awarded a prize to a Participant, shall not be used by the Participant to imply direct GSA endorsement of Participant or Participant's submission. Both Participants and GSA may list the other party's name in a publicly available customer or other list so long as the name is not displayed in a more prominent fashion than any other third-party name.

Prizes: GSA may award up to three team prizes $1,000 to each member of a winning team. GSA is not required to award all prizes if the judges determine that a smaller number of entries meet the scope and requirements laid out for this competition, or if the Agency plans to only use code from a smaller number of entries. Funding for this GSA Digital Innovation and Strategy competition award will come from GSA. Prizes will be awarded to the winner(s) of the competition via Electronic Funds Transfer (EFT), within 60 days of announcement of the winner(s).

Requirements: The final solution should be open source code and placed on GSA's GitHub site to be specified to participants the day of the event. “Open source” refers to a program in which the source code is available to the general public for use and/or modification from its original design free of charge. In order to be Open Source Initiative Certified, the solution must meet the following ten criteria:

1. The author or holder of the license of the source code cannot collect royalties on the distribution of the program;

2. The distributed program must make the source code accessible to the user;

3. The author must allow modifications and derivations of the work under the program's original name;

4. No person, group, or field of endeavor can be denied access to the program;

5. The rights attached to the program must not depend on the program being part of a particular software distribution;

6. The licensed software cannot place restrictions on other software that is distributed with it;

7. The solution must be an online, interactive solution that meets the goals and objectives provided in this document;

8. The solution must include documentation of all data sources used;

9. The solution must include a description of how the solution can be updated with additional data from other agencies; and

10. The solver must provide recommendations to enhance Government insights through improvements in data collection.

The winner(s) of the competition will, in consideration of the prize(s) to be awarded, grant to GSA a perpetual, non-exclusive, royalty-free license to use any and all intellectual property to the winning entry for any governmental purpose, including the right to permit such use by any other agency or agencies of the Federal Government. All other rights of the winning entrant will be retained by the winner of the competition.

Scope: Any federal data and information that is publicly available is included in the scope of this challenge. Summary-level sample data will be provided.

Judges: There will be three Judges, each with expertise in Government-Wide Policy, Travel, Information Technology, and/or Acquisition. Judges will award a score to each submission. The winner(s) of the competition will be decided based on the highest average overall score. Judges will only participate in judging submissions for which they do not have any conflicts of interest.

Judging Criteria: A panel of judges will assess each solution based on technical competence and capabilities, use of GSA data to provide effective outcomes, creativity/innovation, and valuable information and insights.

Submissions will be judged based on the following Metrics:

Criteria Technical Competence and Capabilities/Weight 50%

Description—The solution addresses the primary goals of the Hack-a-thon. It is a finished product that can provide insightful analysis and show GSA how to enhance/improve existing functions, share data across GSA and more efficiently utilize existing applications.

Use of Data To Provide Effective Outcomes/Weight 20%

Description—The solution displays in a way that is easy to understand, visually appealing, and will help drive understanding of current trends as well as recommendations.

Creativity/Innovation/Weight 10%

Description—The solution exceeds any internal capability that GSA has for analysis of data through its incorporation of creative design elements and innovative capabilities.

Valuable Information and Insights Regarding Data/Weight 20%

Description—The solver provides recommendations for additional data elements to be collected by the government. The solver identifies gaps in the data and utilizes external data sources and research to aid the Government in setting future data collection policies.

Challenge Goal and Objectives

Goal: Design and build an application, API, and/or data mashup while using GSA data that solves one of five GSA business problems provided at the Hack-a-thon.

Objectives:

—Utilize GSA data to create an application, API, and/or data mashup.

—Provide GSA a better understanding of use and needs of current and future data assets.

—Post all open source solutions on GitHub for future use by the government developer community and GSA.

Registration: Registration for this event will be accomplished online at the following link: https://www.eventbrite.com/e/us-general-services-administration-gsa-hack-a-thon-tickets-15637828165. It shall remain open until Tuesday, May 5, 2015, at 11:59 p.m., Eastern Standard Time (EST). The event space is limited to the first 120 people; once registration is complete you shall receive a confirmation email.

All participants are required to check in with Security upon arriving at the GSA Central Office Building, 1800 F Street NW., Washington, DC 20405. A government-issued ID is required to gain access into the building. All participants must enter through the main entrance located on 18th Street.

Proceed through Security and follow the posted signs to the Conference Center, Rooms 1459-1461.

Check in at the Registration table on Friday, May 8, 2015, beginning at 9:00 a.m., Eastern Standard Time (EST). All participants must stop here to sign the required forms shown below:

• Gratuitous Service Agreement.

Dated: April 22, 2015.
Kris Rowley,
Director, Enterprise Information & Data Mgmt Ofc.

[FR Doc. 2015-09843 Filed 4-27-15; 8:45 am]

BILLING CODE 6820-34-P